DEPARTMENT OF TRANSPORTATION

Surface Transportation Board

[STB Finance Docket No. 34250]

Almono LP—Acquisition and Operation Exemption—Line of Monongahela Connecting Railroad Company

Almono LP (Almono), a noncarrier, has filed a verified notice of exemption under 49 CFR 1150.31 to acquire and operate approximately 2 miles of rail line of the Monongahela Connecting Railroad Company (Mon Con) in Allegheny County, PA.¹ The line extends between the plant of the sole shipper on the line (MetalTech) on the north side of the Monongahela River and an interchange point with CSX Transportation, Inc. (CSXT) north of CSXT's Glenwood Yard in Hazelwood, PA. Almono states that the line does not have milepost designations.²

¹ Almono states that Mon Con is a wholly owned subsidiary of LTV Steel Corporation (LTV), which is in bankruptcy and is liquidating its assets. Almono indicates that it is acquiring Mon Con's assets as well as adjoining LTV property with court approval.

² Almono states that it intends to seek abandonment of the acquired line shortly after consummation of the transaction. It adds that, although its primary interest is in the underlying real estate and not the railroad operation, it has reached an agreement with MetalTech under which the shipper would continue to receive rail service following abandonment. Acquisitions of active rail lines under 49 U.S.C. 10901 are supposed to be for continued rail use. See, e.g., Land Conservancy—Acq. and Oper.—Burlington Northern, 2 S.T.B. 673 (1997), reconsideration denied, STB Finance Docket No. 33389 (STB served May 13, 1998), pet. for judicial review dismissed sub nom. The Land Conservancy of Seattle and King County v. S.T.B., 238 F.3d 429 (9th Cir. 2000). If Almono elects to file for abandonment authority, it must submit evidence showing that abandonment of the line is warranted under the Board's statutory authority and rules, and must, under these circumstances, demonstrate (e.g., by providing the parties' agreement or a statement from MetalTech) that the interests of the shipper here will be protected.

The transaction was expected to be consummated on or shortly after September 12, 2002. Almond certifies that its projected annual revenues do not exceed those that would qualify it as a Class III carrier.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34250, must be filed with the Surface Transportation Board, 1925 K Street, NW., Washington, DC 20423-0001. In addition, a copy of each pleading must be served on Linda B. McClintock, Two Gateway Center, Pittsburgh, PA 15222, Robert D. Rosenberg, 1224 17th Street, NW., Washington, DC 20036, and Frank Brooks Robinson, 425 Sixth Avenue, Suite 500, Pittsburgh, PA 15219.

Board decisions and notices are available on our Web site at www.stb.dot.gov.

Decided: September 25, 2002.
By the Board, David M. Konschnik, Director, Office of Proceedings.
Vernon A. Williams,
Secretary.

[FR Doc. 02-24865 Filed 10-1-02; 8:45 am]

BILLING CODE 4915-00-P